DEPARTMENT OF HEALTH AND HUMAN SERVICES

Centers for Disease Control and Prevention

Breast and Cervical Cancer Early Detection and Control Advisory Committee

AGENCY: Centers for Disease Control and Prevention (CDC), Department of Health and Human Services (HHS).

ACTION: Notice of meeting.

SUMMARY: In accordance with section 10(a)(2) of the Federal Advisory Committee Act (Pub. L. 92-463), the Centers for Disease Control and Prevention (CDC), announces the following meeting for the Breast and Cervical Cancer Early Detection and Control Advisory Committee (BCCEDCAC). This meeting is open to the public, limited only by room seating (36 seats), audio phone lines (50 audio lines) and net conference access (50 net conference lines) available. The public is welcome to listen to the meeting by accessing the call-in number, 1-888-596-9856, the passcode, 38181337; 50 audio lines will be available.

Online Registration Required: In order to expedite the security clearance process required for entry into a Federal building, all BCCEDCAC Meeting attendees must register for the meeting online at least 8 business days in advance at https://www.cdc.gov/cancer/nbccedp/advisory-committee/registration.htm . Please complete all the required fields and submit your registration no later than November 20, 2017. Each meeting day, in-person attendees must check-in and present identification (driver's license/state issued ID, or passport) to CDC security.

DATES: The meeting will be held on November 30, 2017, 9:00 a.m. to 5:00 p.m., EST and December 1, 2017 9:00 a.m. to 1:00 p.m., EST.

ADDRESSES: CDC Chamblee Campus 4770 Buford Highway, Building 106, Room 1B, Atlanta, GA 30341. The web-conference access for November 30, 2017 is https://ondieh.adobeconnect.com/bccedcac/. The web-conference access for December 1, 2017 is https://ondieh.adobeconnect.com/bccedcac2/.

FOR FURTHER INFORMATION CONTACT: Jameka Reese Blackmon, MBA,CMP, Designated Federal Officer, National Center for Chronic Disease Prevention and Health Promotion, CDC, 4770 Buford Highway NE., Mailstop F76, Atlanta, Georgia, 30341-3717, Telephone (770) 488-4740; grz4@cdc.gov.

SUPPLEMENTARY INFORMATION:

Purpose: The committee is charged with advising the Secretary, Department of Health and Human Services, and the Director, CDC, regarding the early detection and control of breast and cervical cancer. The committee makes recommendations regarding national program goals and objectives; implementation strategies; and program priorities including surveillance, epidemiologic investigations, education and training, information dissemination, professional interactions and collaborations, and policy.

Matters To Be Considered: The agenda will include discussions on expanded National Breast and Cervical Cancer Early Detection Program (NBCCEDP) strategies to increase breast and cervical cancer screening, review of success with implementing evidence-based interventions in health systems in the Colorectal Cancer Control Program and expanding evaluation to measure impact and sustainability of population based activities. Agenda items are subject to change as priorities dictate.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2017-22059 Filed 10-11-17; 8:45 am]

BILLING CODE 4163-19-P